DEPARTMENT OF HEALTH AND HUMAN SERVICES

Centers for Disease Control and Prevention

Breast and Cervical Cancer Early Detection and Control Advisory Committee

In accordance with section 10(a)(2)of the Federal Advisory Committee Act (Pub. L. 92-463), the Centers for Disease Control and Prevention (CDC) announces the aforementioned committee meeting:

Times and Dates: 8:30 a.m.-5 p.m., February 6, 2007; 8:30 a.m.-3 p.m., February 7, 2007.

Place: Centers for Disease Control and Prevention, 1600 Clifton Road, NE., Tom Harkin Global Community Center, Building 19, Atlanta, Georgia 30333, Telephone: 404-639-1717.

Status: Open to the public, limited only by the space available.

Purpose: The committee is charged with advising the Secretary, Department of Health and Human Services, and the Director, CDC, regarding the early detection and control of breast and cervical cancer. The committee makes recommendations regarding national program goals and objectives; implementation strategies; and program priorities including surveillance, epidemiologic investigations, education and training, information dissemination, professional interactions and collaborations, and policy.

Matters to be Discussed: The agenda will include a review and discussion of the National Breast and Cervical Cancer Early Detection Program components; and discussion and review of related policies and emerging issues.

Agenda items are subject to change as priorities dictate.

Contact Person for More Information: Debra Younginer, Executive Secretary, BCCEDCAC, Division of Cancer Prevention and Control, National Center for Chronic Disease Prevention and Health Promotion, CDC, 4770 Buford Highway, Mailstop K-57, Chamblee, Georgia 30316, Telephone: 770-488-1074.

The Director, Management Analysis and Services Office, has been delegated the authority to sign Federal Register notices pertaining to announcements of meetings and other committee management activities for both CDC and NCEH/ATSDR.

Dated: January 12, 2007.
Edward Schultz,
Acting Director, Management Analysis and Services Office, Center for Disease Control and Prevention.

[FR Doc. E7-721 Filed 1-18-07; 8:45 am]

BILLING CODE 4163-18-P